DEPARTMENT OF COMMERCE

Foreign-Trade Zones Board

[B-25-2013]

Foreign-Trade Zone 39—Dallas-Fort Worth, Texas; CSI Calendering, Inc. (Rubber Coated Textile Fabric); Arlington, Texas

On March 4, 2013, the Dallas/Fort Worth International Airport Board, grantee of FTZ 39, submitted a notification of proposed production activity to the Foreign-Trade Zones (FTZ) Board on behalf of CSI Calendering, Inc., in Arlington, Texas.

The notification was processed in accordance with the regulations of the FTZ Board (15 CFR part 400), including notice in the Federal Register inviting public comment (78 FR 18314, March 26, 2013). Pursuant to Section 400.37, the FTZ Board has determined that further review is warranted and has not authorized the proposed activity. If the applicant wishes to seek authorization for this activity, it will need to submit an application for production authority, pursuant to Section 400.23.

Dated: July 5, 2013.
Andrew McGilvray,
Executive Secretary.

[FR Doc. 2013-16777 Filed 7-11-13; 8:45 am]

BILLING CODE 3510-DS-P